FEDERAL COMMUNICATION COMMISSION

Schedule Change to Sunshine Act Meeting

January 28, 2016.

Please note that the time for the Federal Communications Commission Open Meeting is rescheduled from 10:30 a.m. to 1:00 p.m.

The Federal Communications Commission will consider the Agenda items listed on the Commission's Notice of January 21 at the Open Meeting on Thursday, January 28, 2016, scheduled to commence at 1:00 p.m. in room TW-C305, at 445 12th Street SW., Washington, DC.

The prompt and orderly conduct of the Commission's business requires this change and no earlier announcement was practicable.

Federal Communications Commission.
Marlene H. Dortch,
Secretary.

[FR Doc. 2016-02215 Filed 2-2-16; 11:15 am]

BILLING CODE 6712-01-P